DEPARTMENT OF TRANSPORTATION

Pipeline and Hazardous Materials Safety Administration Office of Hazardous Materials Safety

Notice of Application for Special Permits

AGENCY: Pipeline and Hazardous Materials Safety Administration (PHMSA), DOT.

ACTION: List of Applications for Special Permits.

SUMMARY: In accordance with the procedures governing the application for, and the processing of, special permits from the Department of Transportation's Hazardous Material Regulations (49 CFR part 107, subpart B), notice is hereby given that the Office of Hazardous Materials Safety has received the application described herein. Each mode of transportation for which a particular special permit is requested is indicated by a number in the “Nature of Application” portion of the table below as follows: 1—Motor vehicle, 2—Rail freight, 3—Cargo vessel, 4—Cargo aircraft only, 5—Passenger-carrying aircraft.

DATES: Comments must be received on or before August 23, 2010.

Address Comments to: Record Center, Pipeline and Hazardous Materials Safety Administration, U.S. Department of Transportation, Washington, DC 20590.

Comments should refer to the application number and be submitted in triplicate. If confirmation of receipt of comments is desired, include a self-addressed stamped postcard showing the special permit number.

FOR FURTHER INFORMATION CONTACT: Copies of the applications are available for inspection in the Records Center, East Building, PHH-30, 1200 New Jersey Avenue Southeast, Washington DC or at http://regulations.gov.

This notice of receipt of applications for special permit is published in accordance with Part 107 of the Federal hazardous materials transportation law (49 U.S.C. 5117(b); 49 CFR 1.53(b)).

Issued in Washington, DC, on July 16, 2010.
Ryan Paquet,
Acting Director, Office of Hazardous Materials Special Permits and Approvals.

Application No. | Docket No. | Applicant | Regulation(s) affected | Nature of special permits thereof
NEW SPECIAL PERMITS
15059-N |  | Raytheon Missile Systems Company, Tucson, AZ | 49 CFR 173.301, 173.302 and 173.306 | To authorize the transportation in commerce of helium in non-DOT specification packaging (cryoengines and assemblies of Maverick Missiles, Guidance Control Sections and Training Guidance Missiles containing cryoengines). (modes 1, 4, 5)
15062-N |  | Ryan Air Inc. | 49 CFR 173.302(f)(3) and (f)(4) and 173.304(f)(3) and (f)(4) | To authorize the transportation in commerce of cylinders containing oxidizing gases without outer packaging capable of passing the Flame Penetration and Resistance Test and the Thermal Resistance Test, when no other practical means of transportation exist. (modes 4,5)
15069-N |  | Arkema, Inc., Philadelphia, PA | 49 CFR 173.225(e) | To authorize the transportation in commerce of Organic peroxide Type F, Liquid in UN31HA1 intermediate bulk containers by motor vehicle. (mode 1)
15070-N |  | Carleton Technologies, Inc., Westminster, MD | 49 CFR 173.302a, 173.304a and 180.205 | To authorize the manufacture marking, sale and use of carbon and glass fiber reinforced, brass lined composite pressure vessels. (modes 1, 2, 3, 4, 5)
15071-N |  | Orbital Sciences Corporation, Dulles, VA | 49 CFR 173.62(c) | To authorize the transportation in commerce of a Cartridge, power device installed as part of a launch vehicle subassembly in alternative packaging by motor vehicle and cargo vessel. (modes 1, 3)
15073-N |  | Utility Aviation, Inc | 49 CFR 172.101 Column (9B), 172.204(c)(3), 173.27(b)(2), 173.30(a)(1), 175.200, 172.300 and 172.400 | To authorize the transportation in commerce of certain hazardous materials by cargo aircraft including by external load in remote areas of the US without being subject to hazard communication requirements and quantity limitations where no other means of transportation is available. (mode 4)
15075-N |  | Lynden Air Cargo, Anchorage, AK | 49 CFR 173.302(f)(3) and (f)(4) and 173.304(f)(3) and (f)(4) | To authorize the transportation in commerce of cylinders containing oxidizing gases without outer packaging capable of passing the Flame Penetration and Resistance Test and the Thermal Resistance Test, when no other practical means of transportation exist. (mode 4)
15076-N |  | Arctic Transportation Services, Anchorage AK | 49 CFR 173.302(f)(3) and (f)(4) and 173.304(f)(3) and (f)(4) | To authorize the transportation in commerce of cylinders containing oxidizing gases without outer packaging capable of passing the Flame Penetration and Resistance Test and the Thermal Resistance Test, when no other practical means of transportation exist. (mode 4)
15077-N |  | Frontier Flying Service, Inc., Fairbanks, AK | 49 CFR 173.302(f)(3) and (f)(4) and 173.304(f)(3) and (f)(4) | To authorize the transportation in commerce of cylinders containing oxidizing gases without outer packaging capable of passing the Flame Penetration and Resistance Test and the Thermal Resistance Test, when no other practical means of transportation exist. (mode 4)
15078-N |  | Spernak Airways, Anchorage, AK | 49 CFR 173.302(f)(3) and (f)(4) and 173.304(f)(3) and (f)(4) | To authorize the transportation in commerce of cylinders containing oxidizing gases without outer packaging capable of passing the Flame Penetration and Resistance Test and the Thermal Resistance Test, when no other practical means of transportation exist. (mode 4)
15079-N |  | Northern Air Cargo, Anchorage, AK | 49 CFR 173.302(f)(3) and (f)(4) and 173.304(f)(3) and f)(4) | To authorize the transportation in commerce of cylinders containing oxidizing gases without outer packagings capable of passing the Flame Penetration and Resistance Test and the Thermal Resistance Test, when no other practical means of transportation exist. (mode 4)
15080-N |  | Alaska Airlines, Seattle, WA | 49 CFR 173.302(f)(3) and (f)(4) and 173.304(f)(3) and (f)(4) | to authorize the transportation in commerce of cylinders containing oxidizing gases without rigid outer packagings without outer packaging capable of passing the Flame Penetration and Resistance Test and the Thermal Resistance Test, when no other practical means of transportation exist. (mode 4)

[FR Doc. 2010-17792 Filed 7-22-10; 8:45 am]

BILLING CODE 4909-60-M